ENVIRONMENTAL PROTECTION AGENCY

40 CFR Part 50

[EPA-HQ-OAR-2015-0072; FRL-10008-49-OAR]

RIN 2060-AS50

Public Hearing for the Review of the National Ambient Air Quality Standards for Particulate Matter

AGENCY: Environmental Protection Agency (EPA).

ACTION: Notification of public hearing.

SUMMARY: The Environmental Protection Agency (EPA) is announcing that a virtual public hearing will be held for the proposed action titled, “Review of the National Ambient Air Quality Standards for Particulate Matter,” which was signed on April 14, 2020. The hearing will be held May 20 and 21, 2020. Based on its review of the air quality criteria and the national ambient air quality standards (NAAQS) for particulate matter (PM), the EPA is proposing to retain both the primary and secondary PM standards, without revision.

DATES: Comments on the proposed action must be received on or before June 29, 2020. The EPA will hold a virtual public hearing on May 20 and 21, 2020. Please refer to the SUPPLEMENTARY INFORMATION section for additional information on the public hearing.

ADDRESSES: You may send comments, identified by Docket ID No. EPA-HQ-OAR-2015-0072, by any of the following methods:

• Federal eRulemaking Portal: https://www.regulations.gov/ (our preferred method). Follow the online instructions for submitting comments.

• Email: a-and-r-Docket@epa.gov. Include the Docket ID No. EPA-HQ-OAR-2015-0072 in the subject line of the message.

Instructions. All submissions received must include the Docket ID No. for this document. Comments received may be posted without change to https://www.regulations.gov, including any personal information provided. For detailed instructions on sending comments, see the SUPPLEMENTARY INFORMATION section of this document. Out of an abundance of caution for members of the public and our staff, the EPA Docket Center and Reading Room was closed to public visitors on March 31, 2020, to reduce the risk of transmitting COVID-19. Our Docket Center staff will continue to provide remote customer service via email, phone, and webform. We encourage the public to submit comments via https://www.regulations.gov or email, as there is a temporary suspension of mail delivery to EPA, and no hand deliveries are currently accepted. For further information of EPA Docket Center services and the current status, please visit us online at https://www.epa.gov/dockets.

Virtual Public Hearing. The virtual public hearing will be held via teleconference May 20 and 21, 2020, with two sessions each day. The first session will begin at 9:00 a.m. Eastern Time (ET) and will conclude at 1:00 p.m. ET. The second session will begin at 3:00 p.m. ET and will conclude at 7:00 p.m. ET. The EPA may close a session 15 minutes after the last pre-registered speaker has testified if there are no additional speakers. Refer to the SUPPLEMENTARY INFORMATION section below for additional information.

FOR FURTHER INFORMATION CONTACT: For information or questions about the public hearing, please contact Ms. Regina Chappell, U.S. Environmental Protection Agency, Office of Air Quality Planning and Standards (OAQPS) (Mail Code C304-03), Research Triangle Park, NC 27711; telephone: (919) 541-3650; email address: chappell.regina@epa.gov.

For information or questions regarding the review of the PM NAAQS, please contact Dr. Scott Jenkins, U.S. Environmental Protection Agency, OAQPS (Mail Code: C539-02), Research Triangle Park, NC 27711; telephone: (919) 541-1167; email address: jenkins.scott@epa.gov.

SUPPLEMENTARY INFORMATION: The EPA is reviewing the PM NAAQS as required by section 109 (42 U.S.C. 7409) of the Clean Air Act (CAA). The proposed action for which the EPA is holding a public hearing was signed on April 14, 2020, and is available at https://www.epa.gov/naaqs/particulate-matter-pm-standards-federal-register-notices-current-review. The public hearing will provide interested parties the opportunity to present data, views, or arguments concerning EPA's proposed decisions in the current review of the PM NAAQS. Written statements and supporting information submitted during the comment period will be considered with the same weight as any oral comments and supporting information presented at the public hearings.

Written Comments. Submit your comments, identified by Docket ID No. EPA-HQ-OAR-2015-0072, at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Multimedia submissions (audio, video, etc.) must be accompanied by a written submission. The written submission is considered the official submission and should include discussion of all points you wish to make. The EPA will generally not consider submissions or submission content located outside of the primary submission (i.e., on the web, cloud, or other file sharing system). For additional submission methods, the full EPA public comment policy, information about CBI or multimedia submissions, and general guidance on making effective comments, please visit https://www.epa.gov/dockets/commenting-epa-dockets.

The EPA is temporarily suspending its Docket Center and Reading Room for public visitors to reduce the risk of transmitting COVID-19. Written comments submitted by mail are temporarily suspended and no hand deliveries will be accepted. Our Docket Center staff will continue to provide remote customer service via email, phone, and webform. We encourage the public to submit comments via https://www.regulations.gov. For further information and updates on EPA Docket Center services, please visit us online at https://www.epa.gov/dockets.

The EPA continues to carefully and continuously monitor information from the Centers for Disease Control and Prevention (CDC), local area health departments, and our Federal partners so that we can respond rapidly as conditions change regarding COVID-19.

Participation in Virtual Public Hearing. Please note that EPA is deviating from its typical approach because the President has declared a national emergency. Because of current CDC recommendations, as well as state and local orders for social distancing to limit the spread of COVID-19, EPA cannot hold in-person public meetings at this time.

The EPA will begin pre-registering speakers and attendees for the hearing upon publication of this document in the Federal Register. EPA will accept registrations on an individual basis. To register to speak at the virtual hearing, individuals may use the online registration form available via EPA's Particulate Matter Pollution web page for this hearing (https://www.epa.gov/pm-pollution/national-ambient-air-quality-standards-naaqs-pm) or contact Regina Chappell at (919) 541-3650 or chappell.regina@epa.gov. The last day to pre-register to speak at the hearing will be May 14, 2020. On May 18, 2020, the EPA will post a general agenda for the hearing that will list pre-registered speakers in approximate order at: https://www.epa.gov/pm-pollution/national-ambient-air-quality-standards-naaqs-pm.

The EPA will make every effort to follow the schedule as closely as possible on the day of the hearing; however, please plan for the hearings to run either ahead of schedule or behind schedule. Additionally, requests to speak will be taken the day of the hearing at the end of each session as timing allows. The EPA will make every effort to accommodate all speakers.

Each commenter will have 5 minutes to provide oral testimony. The EPA recommends submitting the text of your oral comments as written comments to the rulemaking docket. The EPA may ask clarifying questions during the oral presentations but will not respond to the presentations at that time. Written statements and supporting information submitted during the comment period will be considered with the same weight as oral comments and supporting information presented at the public hearing.

The EPA is also asking hearing attendees to pre-register for the hearing, even those who don't intend to provide testimony. This will help the EPA ensure that sufficient phone lines will be available.

Please note that any updates made to any aspect of the hearing logistics, including potential additional sessions, will be posted online at the EPA's Particulate Matter Pollution website (https://www.epa.gov/pm-pollution/national-ambient-air-quality-standards-naaqs-pm). While the EPA expects the hearing to go forward as set forth above, please monitor our website or contact the person listed in the FOR FURTHER INFORMATION CONTACT section to determine if there are any updates.

If you require the services of a translator or special accommodations such as audio description, please pre-register for the hearing and describe your needs by May 13, 2020. EPA may not be able to arrange accommodations without advanced notice.

How can I get copies of the proposed action and other related information?

The EPA has also established the official public docket for the proposed action under Docket ID No. EPA-HQ-OAR-2015-0072. A copy of the proposed action is available at https://www.epa.gov/naaqs/particulate-matter-pm-standards-federal-register-notices-current-review, and any detailed information related to the proposed action will be available in the public docket prior to the public hearings. Verbatim transcripts of the hearings and written statements will be included in the rulemaking docket.

Dated: April 29, 2020.
Panagiotis Tsirigotis,
Director, Office of Air Quality Planning and Standards.

[FR Doc. 2020-09480 Filed 5-4-20; 8:45 am]

BILLING CODE 6560-50-P